MILLENNIUM CHALLENGE CORPORATION

[MCC FR 22-12]

Notice of Open Meeting

AGENCY: Millennium Challenge Corporation.

ACTION: Notice.

SUMMARY: In accordance with the requirements of the Federal Advisory Committee Act, the Millennium Challenge Corporation (MCC) Advisory Council was established as a discretionary advisory committee on July 14, 2016. Its charter was renewed for a second term on July 11, 2018, a third term on July 8, 2020, and a fourth term on July 7, 2022. The MCC Advisory Council serves MCC solely in an advisory capacity and provides insight regarding innovations in infrastructure, technology, and sustainability; perceived risks and opportunities in MCC partner countries; new financing mechanisms for developing country contexts; and shared value approaches. The MCC Advisory Council provides a platform for systematic engagement with the private sector and other external stakeholders and contributes to MCC's mission—to reduce poverty through sustainable, economic growth.

DATES: Wednesday, October 19, 2022, • 8:30 a.m. EDT/12:30 p.m. UTC.

ADDRESSES: The meeting will be held in-person and via conference call.

FOR FURTHER INFORMATION CONTACT: Contact Bahgi Berhane, 202-521-3600, or email MCCAdvisoryCouncil@mcc.gov, or visit https://www.mcc.gov/about/org-unit/advisory-council.

SUPPLEMENTARY INFORMATION:

Agenda. During the Fall 2022 inaugural meeting of the 2022-2024 MCC Advisory Council, the cohort will be onboarded into the Council and will meet with MCC leadership.

Public Participation. The meeting will be open to the public. Members of the public may file written statement(s) before or after the meeting. If you plan to attend, please submit your name and affiliation no later than Monday, October 10, 2022, to MCCAdvisoryCouncil@mcc.gov to receive instructions on how to attend.

(Authority: Federal Advisory Committee Act, 5 U.S.C. App.)

Dated: September 28, 2022.
Thomas G. Hohenthaner,
Acting VP/General Counsel and Corporate Secretary.

[FR Doc. 2022-21452 Filed 10-3-22; 8:45 am]

BILLING CODE 9211-03-P